DEPARTMENT OF ENERGY

Federal Energy Regulatory Commission

Combined Notice of Filings #1

Take notice that the Commission received the following electric rate filings:

Docket Numbers: ER10-2877-001.

Applicants: Cobb Electric Membership Corp.

Description: COBB Electric Membership Corp. submits Second Amendment to the December 20, 2011 Updated Market Power Analysis.

Filed Date: 11/20/12.

Accession Number: 20121120-5205.

Comments Due: 5 p.m. ET 12/11/12.

Docket Numbers: ER12-919-002.

Applicants: Rockland Wind Farm LLC.

Description: Rockland Wind Farm LLC submits Notice of Non-Material Change in Status.

Filed Date: 11/21/12.

Accession Number: 20121121-5030.

Comments Due: 5 p.m. ET 12/12/12.

Docket Numbers: ER13-433-000.

Applicants: Grant Energy, Inc.

Description: Cancellation to be effective 11/21/2012.

Filed Date: 11/20/12.

Accession Number: 20121120-5141.

Comments Due: 5 p.m. ET 12/11/12.

Docket Numbers: ER13-434-000.

Applicants: Dominion Energy Marketing, Inc.

Description: New Baseline Refile to be effective 11/21/2012.

Filed Date: 11/20/12.

Accession Number: 20121120-5144.

Comments Due: 5 p.m. ET 12/11/12

Docket Numbers: ER13-435-000.

Applicants: New York Independent System Operator, Inc.

Description: NYISO OATT Revisions Re: Blind Trust Mechanism to be effective 1/1/2013.

Filed Date: 11/20/12.

Accession Number: 20121120-5176.

Comments Due: 5 p.m. ET 12/4/12.

Docket Numbers: ER13-436-000.

Applicants: PacifiCorp.

Description: BPA Cooperative Communications Agreement 4th Revised to be effective 11/21/2012.

Filed Date: 11/20/12.

Accession Number: 20121120-5177

Comments Due: 5 p.m. ET 12/11/12.

Docket Numbers: ER13-437-000.

Applicants: New York Independent System Operator, Inc.

Description: NYISO Agreement Revisions Re: Blind Trust Mechanism to be effective 1/1/2013.

Filed Date: 11/20/12.

Accession Number: 20121120-5180.

Comments Due: 5 p.m. ET 12/4/12.

Docket Numbers: ER13-438-000

Applicants: PSEG Fossil LLC.

Description: Capacity Interconnection Rights Agreement to be effective 11/21/2012.

Filed Date: 11/21/12.

Accession Number: 20121121-5000.

Comments Due: 5 p.m. ET 12/12/12.

Docket Numbers: ER13-439-000.

Applicants: California Independent System Operator Corporation.

Description: Petition for Approval of Disposition of Proceeds of Penalty Assessments of the California Independent System Operator Corporation.

Filed Date: 11/20/12.

Accession Number: 20121120-5215.

Comments Due: 5 p.m. ET 12/11/12.

Docket Numbers: ER13-440-000.

Applicants: PJM Interconnection, L.L.C.

Description: Original Service Agreement No. 3418; Queue No. X3-071 to be effective 10/24/2012.

Filed Date: 11/21/12.

Accession Number: 20121121-5043.

Comments Due: 5 p.m. ET 12/12/12.

Docket Numbers: ER13-441-000

Applicants: PJM Interconnection, L.L.C.

Description: Revised Essex ISA—First Revised Service Agreement No. 2382 to be effective 11/20/2012.

Filed Date: 11/21/12.

Accession Number: 20121121-5050.

Comments Due: 5 p.m. ET 12/12/12.

Docket Numbers: ER13-442-000

Applicants: AES Beaver Valley, LLC.

Description: AES Beaver Valley MBR Tariff Filing to be effective 1/1/2013.

Filed Date: 11/21/12.

Accession Number: 20121121-5052.

Comments Due: 5 p.m. ET 12/12/12.

Take notice that the Commission received the following PURPA 210(m)(3) filings:

Docket Numbers: QM13-1-000

Applicants: Wisconsin Public Service Corporation, Upper Peninsula Power Company

Description: Application of Wisconsin Public Service Corporation and Upper Peninsula Power Company to Terminate QF Mandatory Purchase Obligation.

Filed Date: 11/21/12

Accession Number: 20121121-5029

Comments Due: 5 p.m. ET 12/19/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 21, 2012.
Nathaniel J. Davis, Sr.,
Deputy Secretary.

[FR Doc. 2012-28957 Filed 11-29-12; 8:45 am]

BILLING CODE 6717-01-P